DEPARTMENT OF THE INTERIOR

National Park Service

[NPS-WASO-NAGPRA-NPS0035093; PPWOCRADN0-PCU00RP14.R50000]

Notice of Inventory Completion: New Mexico State University Museum, Las Cruces, NM; U.S. Department of the Interior, Bureau of Land Management, New Mexico State Office, Las Cruces, NM; and U.S. Department of Agriculture, Forest Service, Gila National Forest, Silver City, NM, and Apache Sitgreaves National Forest, Springerville, AZ

AGENCY: National Park Service, Interior.

ACTION: Notice.

SUMMARY: In accordance with the Native American Graves Protection and Repatriation Act (NAGPRA), the New Mexico State University Museum; U.S. Department of the Interior, Bureau of Land Management, New Mexico State Office; and the U.S. Department of Agriculture, Forest Service, Gila National Forest and Apache Sitgreaves National Forest have completed an inventory of human remains and associated funerary objects and have determined that there is a cultural affiliation between the human remains and associated funerary objects and Indian Tribes or Native Hawaiian organizations in this notice. The human remains and associated funerary objects were removed from Apache County AZ, Doña Ana County, NM, Grant County, NM, Lincoln County, NM, Luna County, NM, Otero County, NM, Sierra County, NM and, in certain instances, from locations unknown.

DATES: Repatriation of the human remains and associated funerary objects in this notice may occur on or after February 13, 2023.

FOR FURTHER INFORMATION CONTACT: Dr. Fumi Arakawa, New Mexico State University Museum Director's Office, 1525 Stewart, Room 331, P.O. Box 30001, MSC:3BV, Las Cruces, NM 88003-8001, email farakawa@nmsu.edu.

SUPPLEMENTARY INFORMATION: Notice is here given in accordance with the Native American Graves Protection and Repatriation Act (NAGPRA), 25 U.S.C. 3003, of the completion of an inventory of human remains under the control of the New Mexico State University Museum (University Museum); U.S. Department of the Interior, Bureau of Land Management, New Mexico State Office (BLM); and the U.S. Department of Agriculture, Forest Service, Gila National Forest, Silver City, NM (Gila NF), and Apache Sitgreaves National Forest, Springerville, AZ (Apache Sitgreaves NF), and in the physical custody of the New Mexico State University Museum.

This notice is published as part of the National Park Service's administrative responsibilities under NAGPRA. The determinations in this notice are the sole responsibility of the University Museum, BLM, Gila NF, or Apache Sitgreaves NF. The National Park Service is not responsible for the determinations in this notice. Additional information on the determinations in this notice, including the results of consultation, can be found in the inventory or related records held by the University Museum.

Description

Between 1950 and 2001, human remains representing a minimum of 288 individuals and 1,079 associated funerary objects were acquired by the University Museum by various means. The University acquired many human remains and associated funerary objects through donations by private individuals from sites on private land. In several instances, the exact location and/or land status from which the donated human remains and associated funerary objects were removed is unknown. Human remains and associated funerary objects in custody of the University Museum that originate from federal land belonging to either BLM, Gila NF, or Apache Sitgreaves NF were acquired through archeological excavations or surveys that were sanctioned by the respective managing agency. The University Museum has control of the human remains and associated funerary objects removed from private lands that were acquired by means of donation and has custody of the human remains and associated funerary objects removed from federal land belonging either to the BLM, Gila NF, or Apache Sitgreaves NF.

Aiken-Dearholt—Human remains representing, at minimum, four individuals were removed from a pueblo ruin in Chavez County, NM. In 1932, human remains representing, at minimum, two individuals were removed by Mr. and Mrs. Aiken. On December 21, 1987, Mrs. Zelma Aiken donated a stone fetish and a small ceramic jar from known burial contexts at the pueblo to the University Museum. In 1999, the stone fetish and ceramic jar were identified as being “unassociated funerary objects.” On March 21, 2001, Mrs. Aiken's grandson, William R. Dearholt, donated additional funerary objects and human remains from the same pueblo. The donation included human remains representing, at minimum, two individuals. No known individuals were identified. The previous donated materials of a stone fetish and ceramic jar by Mrs. Zelma Aiken appear to have derived from the same burial contexts from which the two individuals were taken from. The 44 donated funerary objects by Mrs. Aiken and Mr. Dearholt together represent one red-on-white bowl, one stone animal fetish, 12 Mimbres Black-on-white (oxidized) pottery sherds, and 30 Mimbres Black-on-white pottery sherds. Artifact typologies indicate the site dates to circa A.D. 750-1150 suggesting a Mimbres-Mogollon cultural affiliation.

Berrenda Creek (LA 12992)—In 1976, human remains representing, at minimum, eight individuals were removed by a New Mexico State University field school directed by J.R. Gomolak and Dabney Ford from the Berrenda Creek site Sierra County, NM. The site is on land managed by the Gila NF. No known individuals were identified. The 107 associated funerary objects include four shell bracelets, one turquoise bead, one mineral sample, two manos, two metates, two flagstones, 72 shell beads, one shell strand, one shell pendant, two turquoise pendants, four snail shells, three Classic Mimbres Black-on-white ceramic bowls, three soil samples, eight pollen samples, and one carbon sample. Cultural items associated with the individuals are diagnostic of Mimbres-Mogollon cultural traditions. Habitation of the Berrenda Creek site dates from approximately A.D. 1000 to 1350.

Breland Co-mingled—Human remains representing, at minimum, 138 individuals were removed from unknown locations in New Mexico. The Breland Co-mingle is a research collection of New Mexico State University's Department of Anthropology that is made up of various elements from multiple human remains that have no known provenience. No known individuals were identified. The 122 associated funerary objects include potsherds consisting of black-on-white ceramic fragments, ceramic sherds, ceramic bowls, sandstone tools, polished bone, stone flakes, pebbles, and charcoal fragments. Artifact typologies indicate the individuals are from multiple sites within New Mexico and may date to between A.D. 750 and A.D.1450.

Camien—In 1950, human remains representing, at minimum, one individual were donated to the University Museum by Professor Emeritus, Laiten L. Camien. Notes associated with the collection indicate that the individual was removed at an unknown date from a rock shelter in Pickett Spring Canyon near Kingston in Sierra County, NM. No known individual was identified. No associated funerary objects are present. There is insufficient information to estimate the age of the human remains.

Chavez Cave (LA 5220)—Prior to 1977, human remains representing, at minimum, one individual were removed by private individuals from Chavez Cave near Las Cruces, Doña Ana County, NM. The site is on land managed by the BLM. The human remains were donated to the University Museum in 1976. No known individual was identified. No associated funerary objects are present. Mogollon habitation of Doña Ana County generally dates between approximately A.D. 200 and 1400-1450.

Cox Ranch (LA 923)—Human remains representing, at minimum, 30 individuals were removed during a survey along a drainage system from the Black Range, east of the Continental Divide and west of Truth or Consequences, Sierra County, NM. No known individuals were identified. The 96 associated funerary objects include one bag of corn cob fragments, 23 lithic fragments, one metate, one mano, three stone tools, one shell bead, one donut stone, one bone needle fragment, one bone tool, one lump, one lot of red ochre, one lump white ochre, 17 lithic flakes, one projectile point, and 42 potsherds. Cultural items excavated from the Cox Ranch site are diagnostic of Mimbres-Mogollon cultural traditions. Habitation of the Cox site dates from approximately A.D. 1000 to 1175.

Dines Site—At an unknown date, human remains representing, at minimum, one individual were donated to the University Museum. No known individual was identified. Records indicate the individual was recovered from private land. No report with exact location coordinates or history of the collection is available. The 100 associated funerary objects include 25 lithic flakes and tools, one metate fragment, 53 potsherds consisting of brownware and redware ceramic sherds, four Gila Polychrome ceramic sherds, one Playas Red ceramic sherd, five Chupadero Black-on-white sherds, seven Mimbres and Reserve style corrugated sherds, and four indented corrugated ceramic sherds. Cultural items associated with the individual are diagnostic of Mimbres-Mogollon and Salado cultural traditions. Artifact typologies indicate the Dines site dates between A.D. 750 and 1350.

Fort Cummings (LA 6900)—In 1989, human remains representing, at minimum, one individual were removed from Dr. Edward Staski and New Mexico State University students from Fort Cummings, Luna County, NM. The individual is known to have been removed from the portion of the site that is on land managed by the BLM. No known individual was identified. The two associated funerary objects are one partial stone bead and one ceramic sherd of San Francisco Red. The ceramic sherd is representative of Mimbres-Mogollon ceramic traditions. Mimbres-Mogollon habitation of Luna County generally dates from approximately A.D 200 to 1150.

Garfield/Rio Vista (LA 1082)—In 1973, human remains representing, at minimum, two individuals were removed by Dr. Stanley Bussey and New Mexico State University students from the Garfield/Rio Vista site, Sierra County, NM. The individuals are known to have been removed from the portion of the site that is on land managed by the BLM. The human remains were accessioned by the University Museum in 1992. No known individuals were identified. The 152 associated funerary objects include one white pendant fragment, 53 black/white potsherds, 32 restorable potsherds, 21 random potsherds, one red-on-white rim sherd, nine carbon and charcoal fragments, 31 animal bones, three pieces of adobe, and one indeterminate plainware sherd. Cultural items associated with the individuals are diagnostic of Mimbres-Mogollon cultural traditions. Habitation of the Garfield/Rio Vista site dates from approximately A.D. 600 to 1150.

Gila National Forest Survey—In the 1970s, human remains representing, at minimum, six individuals were removed from an unknown number of sites managed by the Gila NF. No known individuals were identified. The removal of the individuals was connected to a group of surveys undertaken in the 1970s on various parcels of land within the Gila NF. The University Museum has no information regarding the exact location of the surveys or the findings associated with that survey. The eight associated funerary objects include one mineral specimen, one fossil shell, one obsidian flake, one obsidian projectile point, one ceramic handle, two rim sherds, and one maize corn cob. There is not sufficient information to make a reasonable estimate of the age of the individuals other than prehistoric.

Kilburn—At an unknown date, human remains representing, at minimum, one individual were donated to the University Museum. No known individuals were identified. No associated funerary objects are present. No report was found associated with the Kilburn human remains, so exact location coordinates is unknown.

Kingston Pueblo—At an unknown date, human remains representing, at minimum, of one individual were removed by students of Dr. El-Najjar at New Mexico State University from Kingston Pueblo in Sierra County, NM. No known individuals were identified. No associated funerary objects are present. Internal museum records note that the Kingston Pueblo site is of Mimbres-Mogollon affiliation and dates from between A.D. 1000 and 1150/1200.

Los Tules (LA 16315)—In 1980, human remains representing, at minimum, one individual were removed by Dr. Mahmoud El-Najjar and New Mexico State University students from the Los Tules site in Doña Ana County, NM. The individual is known to have been removed from the portion of the site that is on land managed by the BLM. The human remains were accessioned by the University Museum in 1985. No known individuals were identified. The 105 associated funerary objects include two lithic flakes, one obsidian projectile point, 101 animal bone fragments, and one piece of yellow ochre. Cultural items excavated from Los Tules are diagnostic of Jornada-Mogollon cultural traditions. Jornada-Mogollon habitation of the Los Tules site dates from approximately A.D. 750 to 1100.

Peña Blanca Shelter (LA 2891)—In the 1980s, human remains representing, at minimum, one individual were removed by Dr. Steadman Upham and New Mexico State University students from the Peña Blanca Shelter, Doña Ana County, NM. The site is on land managed by the BLM. The human remains were accessioned by the University Museum in 1985. No known individuals were identified. No associated funerary objects are present. Cultural items excavated from the Peña Blanca shelter are diagnostic of Jornada-Mogollon cultural traditions. Jornada-Mogollon habitation of the site dates from approximately A.D. 578 to 1420.

Roth Site (LA 73942)—Human remains representing, at minimum, seven individuals were removed from the Roth site, of which, five human remains are currently missing from the collection. In 1976, human remains representing a minimum of five individuals were removed from the Roth site by individuals associated with the El Paso Archaeological Society, but it is unknown where these human remains are. In 1982, human remains representing a minimum of two individuals were removed from the site as part of a New Mexico State University field school directed by Dr. Fred Plog. No known individuals were identified. The University Museum continues to look for the missing five individuals. The 78 associated funerary objects consist of one carbon sample, one sand sample, one soil sample, two pollen samples, 38 potsherds, 28 lithic fragments, and seven beads. The associated funerary objects are diagnostic of Jornada-Mogollon cultural traditions. Artifact typologies indicate the Jornada-Mogollon habitation of the site dates between A.D. 1200 and 1300.

Ruidoso—In 1988, human remains representing, at minimum, two individuals were removed from Gonzales Farm near Ruidoso, Lincoln County, NM. It is unknown if the two individuals were recovered from the same site near Ruidoso. No known individuals were identified. The 31 associated funerary objects include 25 Alma Plain ceramic sherds, one San Francisco Red sherd, and five animal remains. The associated funerary objects are diagnostic of Jornada-Mogollon cultural traditions. Artifact typologies indicate the two individuals date to between A.D. 400 and 1200.

Sheriff Donor—In 1967, human remains representing, at minimum, six individuals were donated to the University Museum as part of a general collection by Mr. Robert Sheriff. No provenience information was provided in the donation documentation. All human remains were identified as prehistoric Native Americans. No known individuals were identified. No associated funerary objects are present.

Sonrisa Shelter (LA 104568)—In the 1980s, human remains representing, at minimum, one individual were removed by Dr. Steadman Upham and New Mexico State University students from Sonrisa Shelter, Doña Ana County, NM. The site is on land managed by the BLM. The human remains were accessioned by the University Museum in 1985. No known individual was identified. No associated funerary objects are present. Cultural items excavated from the Sonrisa Shelter are diagnostic of Archaic period cultural traditions. Archaic habitation of the site dates from approximately 1125 B.C. to 652 B.C.

Springerville (AZE 8-10)—In 1975, human remains representing, at minimum, five individuals were removed by a New Mexico State University field school under Dr. Stanley Bussey from several small Mogollon sites near Springerville, Apache County, AZ. The selected Mogollon sites are near the junction of the Cibola, Black River, and Mimbres River Branches, AZ and are on lands managed by the Apache Sitgreaves NF. No known individuals were identified. The 46 associated funerary objects include four miscellaneous ceramic sherds, 24 black-on-red sherds, one black-on-white vessel handle, 13 black-on-red bowl fragments, one paho stick with three pieces, one wood pendant, one canine tooth, and one soil sample. The sites are designated Ancestral Pueblo. Artifact typologies indicate the sites date between A.D. 950 to 1150.

Tennant—At an unknown date, human remains representing, at minimum, one individual were removed from Otero County, NM, and subsequently came into the possession of the University Museum. No known individual was identified. No associated funerary objects are present. No report was found associated with the Tennant site.

Three Rivers (LA 4921)—Human remains representing, at minimum, six individuals were removed from the Three Rivers site. In 1975, human remains representing a minimum of three individuals along with three lots of artifacts from the Three Rivers site were loaned to the University Museum by the BLM. In 1976, human remains representing a minimum of three individuals were removed from the Three Rivers site by New Mexico University personnel with assistance from the U.S. Youth Conservation Corp. The human remains were accessioned by the University Museum in 1975 and 1984. No known individuals were identified. The 93 associated funerary objects include a San Andres Broadline Red-on-Terracotta bowl, a groundstone mano, two ceramic handles, five projectile points, five pieces of lithic debitage, 43 ceramic sherds of Chupadero Black-on-white, indeterminate El Paso brownware,16 Red-on-Terracotta bowl fragments, one green schist bar, 14 animal bones, one carbon sample of unknown material, one Alma plainware sherd, one lithic fragment, and two animal bones. Cultural items excavated from the Three Rivers site are diagnostic of Jornada-Mogollon cultural traditions. Jornada-Mogollon habitation of the site dates from approximately A.D. 500 to 1400-1450.

Thorn Shelter (LA 104565)—In the 1980s, human remains representing, at minimum, one individual were removed by Dr. Steadman Upham and New Mexico State University students from Thorn Shelter, Doña Ana County, NM. The site is on land managed by the BLM. The human remains were accessioned by the University Museum in 1990. No known individual was identified. The four associated funerary objects are fragments of a rabbit fur cordage blanket. Cultural items excavated from the Thorn Shelter are diagnostic of Jornada-Mogollon cultural traditions. Jornada-Mogollon habitation of the site dates from approximately A.D. 700 to 1420.

Unknown Donors—At an unknown date, human remains representing, at minimum, 61 individuals were donated to the University Museum. No known individuals were identified. These individuals and associated funerary objects have no known provenience, and there is no information regarding the original donation. The 91 associated funerary objects include three rim sherds, four “killed” Mimbres bowls, 10 Mimbres bowls, 13 Mimbres sherds, 21 potsherds, four Mimbres whiteware sherds, three Alma Plain sherds, one ceramic handle, 17 stone flakes, one sandstone sphere, one yucca sandal, one corn cob, and 12 clay samples. The associated funerary objects are diagnostic of Mimbres-Mogollon cultural traditions.

White Sands Missile Range—In 1978, human remains representing, at minimum, two individuals were received by Dr. Mahmoud El-Najjar of New Mexico State University and at some point, placed in the University Museum. The only information about the human remains comes from a handwritten note found in the records. It indicates the following: “Jim” from the Office of Installation/Command at White Sands Missile Range had found two cranial fragments on a grated road on the range and turned them into the Fairacres Post Office. The exact location of the human remains was not indicated but likely originate from some location in Doña Ana, Otero, or Sierra Counties, NM. The notes further indicate the human remains were from two Native American individuals. No known individuals were identified. No associated funerary objects were present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, and information derived during consultation.

Determinations

Pursuant to NAGPRA and its implementing regulations, and after consultation with the appropriate Indian Tribes and Native Hawaiian organizations, the New Mexico State University Museum, Bureau of Land Management, Apache-Sitgreaves National Forest, and Gila National Forest have determined that:

• The human remains described in this notice represent the physical remains of 288 individuals.

• The 1,079 objects described in this notice are reasonably believed to have been placed with or near individual human remains at the time of death or later as part of the death rite or ceremony.

• There is a relationship of shared group identity that can be reasonably traced between the human remains and associated funerary objects described in this notice and the Comanche Nation, Oklahoma; Hopi Tribe of Arizona; Navajo Nation, Arizona; Mescalero Apache Tribe of the Mescalero Reservation, New Mexico; Pueblo of Acoma, New Mexico; Pueblo of Jemez, New Mexico; Pueblo of Santa Ana, New Mexico; Pueblo of Tesuque, New Mexico; Santo Domingo Pueblo (previously listed as Kewa Pueblo, New Mexico, and as Pueblo of Santo Domingo); White Mountain Apache Tribe of the Fort Apache Reservation, Arizona; Ysleta del Sur Pueblo (previously listed as Ysleta Del Sur Pueblo of Texas); and the Zuni Tribe of the Zuni Reservation, New Mexico.

Requests for Repatriation

Written requests for repatriation of the human remains and associated funerary objects in this notice must be sent to the Responsible Official identified in the For Further Information Contact section. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 13, 2023. If competing requests for repatriation are received, the museum or federal agency in control of the human remains University Museum; BLM; Gila NF or Apache Sitgreaves NF) must determine the most appropriate requestor prior to repatriation. Requests for joint repatriation of the human remains and associated funerary objects are considered a single request and not competing requests. The University Museum is responsible for sending a copy of this notice to the Indian Tribes and Native Hawaiian organizations identified in this notice.

Authority: Native American Graves Protection and Repatriation Act, 25 U.S.C. 3003, and the implementing regulations, 43 CFR 10.9, 10.10, and 10.14.

Dated: January 4, 2023.
Melanie O'Brien,
Manager, National NAGPRA Program.

[FR Doc. 2023-00464 Filed 1-11-23; 8:45 am]

BILLING CODE 4312-52-P